DEPARTMENT OF ENERGY

Federal Energy Regulatory Commission

Combined Notice of Filings #1

Take notice that the Commission received the following electric rate filings:

Docket Numbers: ER19-2619-001.

Applicants: Midcontinent Independent System Operator, Inc.

Description: Tariff Amendment: 2019-10-10_Request for deferral of action on Fast AGC filing to be effective 12/31/9998.

Filed Date: 10/10/19.

Accession Number: 20191010-5021.

Comments Due: 5 p.m. ET 10/31/19.

Docket Numbers: ER20-66-000.

Applicants: PJM Interconnection, L.L.C.

Description: Tariff Cancellation: Notice of Cancellation of ISA/SA No. 3984; Queue No. R52A to be effective 11/11/2019.

Filed Date: 10/9/19.

Accession Number: 20191009-5168.

Comments Due: 5 p.m. ET 10/30/19.

Docket Numbers: ER20-67-000.

Applicants: Evergy Kansas Central, Inc.

Description: § 205(d) Rate Filing: Notice of Succession, Market Based Rate Tariff to be effective 12/9/2019.

Filed Date: 10/10/19.

Accession Number: 20191010-5000.

Comments Due: 5 p.m. ET 10/31/19.

Docket Numbers: ER20-68-000.

Applicants: Evergy Generating, Inc.

Description: § 205(d) Rate Filing: Notice of Succession, Purchase Power Agreement to be effective 12/9/2019.

Filed Date: 10/10/19.

Accession Number: 20191010-5001.

Comments Due: 5 p.m. ET 10/31/19.

Docket Numbers: ER20-69-000.

Applicants: Silver Lake Solar, LLC.

Description: Petition for Limited Waiver of Silver Lake Solar, LLC.

Filed Date: 10/9/19.

Accession Number: 20191009-5185.

Comments Due: 5 p.m. ET 10/23/19.

Docket Numbers: ER20-70-000.

Applicants: Alabama Power Company.

Description: § 205(d) Rate Filing: Charlton Solar Energy Center (Charlton Solar) LGIA Filing to be effective 9/26/2019.

Filed Date: 10/10/19.

Accession Number: 20191010-5038.

Comments Due: 5 p.m. ET 10/31/19.

Docket Numbers: ER20-71-000.

Applicants: Coachella Hills Wind, LLC.

Description: Baseline eTariff Filing: MBR Application to be effective 12/10/2019.

Filed Date: 10/10/19.

Accession Number: 20191010-5039.

Comments Due: 5 p.m. ET 10/31/19.

Docket Numbers: ER20-72-000.

Applicants: Coachella Wind Holdings, LLC.

Description: Baseline eTariff Filing: MBR Application to be effective 12/10/2019.

Filed Date: 10/10/19.

Accession Number: 20191010-5040.

Comments Due: 5 p.m. ET 10/31/19.

Docket Numbers: ER20-73-000.

Applicants: Midcontinent Independent System Operator, Inc.

Description: § 205(d) Rate Filing: 2019-10-11_Attachment L FTR Credit Filing to be effective 6/1/2020.

Filed Date: 10/10/19.

Accession Number: 20191010-5041.

Comments Due: 5 p.m. ET 10/31/19.

Docket Numbers: ER20-74-000.

Applicants: Desert Hot Springs, LLC.

Description: Baseline eTariff Filing: MBR Application to be effective 12/10/2019.

Filed Date: 10/10/19.

Accession Number: 20191010-5042.

Comments Due: 5 p.m. ET 10/31/19.

Docket Numbers: ER20-75-000.

Applicants: Oasis Alta, LLC.

Description: Baseline eTariff Filing: MBR Application to be effective 12/10/2019.

Filed Date: 10/10/19.

Accession Number: 20191010-5043.

Comments Due: 5 p.m. ET 10/31/19.

Docket Numbers: ER20-76-000.

Applicants: Oasis Plains Wind, LLC.

Description: Baseline eTariff Filing: MBR Application to be effective 12/10/2019.

Filed Date: 10/10/19.

Accession Number: 20191010-5044.

Comments Due: 5 p.m. ET 10/31/19.

Docket Numbers: ER20-77-000.

Applicants: Painted Hills Wind Holdings, LLC.

Description: Baseline eTariff Filing: MBR Application to be effective 12/10/2019.

Filed Date: 10/10/19.

Accession Number: 20191010-5046.

Comments Due: 5 p.m. ET 10/31/19.

Docket Numbers: ER20-78-000.

Applicants: San Jacinto Wind II, LLC.

Description: Baseline eTariff Filing: MBR Application to be effective 12/10/2019.

Filed Date: 10/10/19.

Accession Number: 20191010-5047.

Comments Due: 5 p.m. ET 10/31/19.

Docket Numbers: ER20-79-000.

Applicants: Voyager Wind IV Expansion, LLC.

Description: Baseline eTariff Filing: MBR Application to be effective 12/10/2019.

Filed Date: 10/10/19.

Accession Number: 20191010-5048.

Comments Due: 5 p.m. ET 10/31/19.

Docket Numbers: ER20-80-000.

Applicants: Meadow Lake Wind Farm VI LLC,

Description: Baseline eTariff Filing: Reactive Power Compensation Filing to be effective 12/9/2019.

Filed Date: 10/10/19.

Accession Number: 20191010-5064.

Comments Due: 5 p.m. ET 10/31/19.

Docket Numbers: ER20-81-000.

Applicants: Midcontinent Independent System Operator, Inc.

Description: § 205(d) Rate Filing: 2019-10-10_SA 2527 ITC-Consumers Energy 4th Rev GIA (J161 J752) to be effective 9/25/2019.

Filed Date: 10/10/19.

Accession Number: 20191010-5084.

Comments Due: 5 p.m. ET 10/31/19.

Docket Numbers: ER20-82-000.

Applicants: PacifiCorp.

Description: § 205(d) Rate Filing: 3 Phases Renewables (OR D.A.) Rev 2 to be effective 10/1/2019.

Filed Date: 10/10/19.

Accession Number: 20191010-5103.

Comments Due: 5 p.m. ET 10/31/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 10, 2019.
Nathaniel J. Davis, Sr.,
Deputy Secretary.

[FR Doc. 2019-22663 Filed 10-16-19; 8:45 am]

BILLING CODE 6717-01-P